FEDERAL MARITIME COMMISSION

Notice of Meetings

Agency Holding the Meeting: Federal Maritime Commission.

Time and Date: September 24, 2008—10 a.m.

Place: 800 North Capitol Street, NW., First Floor Hearing Room, Washington, DC.

Status: A portion of the meeting will be in Open Session and the remainder of the meeting will be in Closed Session.

Matters To Be Considered:

Open Session

(1) Docket No. 06-05—Verucci Motorcycles, LLC v. Senator International;

(2) Docket No. 06-11—R.O. White & Company, Inc., Ceres Marine Terminals, Inc. v. Port of Miami Terminal Operating Company, LLC, Continental Stevedoring & Terminals, Inc., et al.

(3) Federal Information Security Management Act (FISMA) Report to OMB;

(4) FY2008 Budget Status Report, End-of-Year Possible Additional Funding Approvals.

Closed Session

(1) Docket No. 1883(F)—Frank J. Kuzela v. Maersk Sealand;

(2) LA/Long Beach Ports/Terminals Agreements;

(3) Internal Administrative Practices and Personnel Matters.

For More Information Contact: Karen V. Gregory, Assistant Secretary, (202) 523-5725.

Karen V. Gregory,
Assistant Secretary.

[FR Doc. E8-22139 Filed 9-18-08; 11:15 am]

BILLING CODE 6730-01-P